DEPARTMENT OF THE INTERIOR

National Park Service

[NPS-WASO-NAGPRA-NPS0036431; PPWOCRADN0-PCU00RP14.R50000]

Notice of Inventory Completion: Detroit Institute of Arts, Detroit, MI

AGENCY: National Park Service, Interior.

ACTION: Notice.

SUMMARY: In accordance with the Native American Graves Protection and Repatriation Act (NAGPRA), the Detroit Institute of Arts has completed an inventory of human remains and associated funerary objects and has determined that there is no cultural affiliation between the human remains and associated funerary objects and any Indian Tribe. The human remains and associated funerary objects were removed from an unknown geographic location.

DATES: Disposition of the human remains and associated funerary objects in this notice may occur on or after September 22, 2023.

ADDRESSES: Denene De Quintal, Detroit Institute of Arts, 5200 Woodward Avenue, Detroit, MI 48202, telephone (313) 578-1067, email NAGPRA@dia.org.

SUPPLEMENTARY INFORMATION: This notice is published as part of the National Park Service's administrative responsibilities under NAGPRA. The determinations in this notice are the sole responsibility of the Detroit Institute of Arts. The National Park Service is not responsible for the determinations in this notice. Additional information on the determinations in this notice, including the results of consultation, can be found in the inventory or related records held by the Detroit Institute of Arts.

Description

On an unknown date, human remains representing, at minimum, 11 individuals were removed from an unknown geographic location. The individuals (X1989.2344; X1989.3750; X1989.3758) were acquired by the Detroit Institute of Arts (DIA). On May 19, 2021, museum staff encountered human remains during a comprehensive review of the “Indigenous Americas” collection. The six associated funerary objects are one lot consisting of unidentified animal teeth; one tooth or claw fragment; one lot of claws; one piece of wood; one shell; and one lot consisting of non-human bone fragments.

Pursuant to 43 CFR 10.16, the Secretary of the Interior may make a recommendation for a transfer of control of the culturally unidentifiable human remains and associated funerary objects. In June of 2023, the Detroit Institute of Arts requested that the Review Committee consider a proposal to transfer control of the human remains in this notice to the Sault Ste. Marie Tribe of Chippewa Indians, Michigan. The Review Committee, acting pursuant to its responsibility under 25 U.S.C. 3006(c)(5), considered the request at its June 2023 meeting and recommended to the Secretary that the proposed transfer of control proceed. A July 2023 letter on behalf of the Secretary of Interior from the Designated Federal Official transmitted the Secretary's independent review and concurrence with the Review Committee that:

• The Detroit Institute of Arts consulted with every appropriate Indian Tribe or Native Hawaiian organization,

• None of the consulted and notified Indian Tribes and Native Hawaiian organizations objected to the proposed transfer of control, and

• The Detroit Institute of Arts may proceed with the agreed upon transfer of control of the culturally unidentifiable human remains and associated funerary objects to the Sault Ste. Marie Tribe of Chippewa Indians, Michigan.

Transfer of control is contingent on the publication of a Notice of Inventory Completion in the Federal Register. This notice fulfills that requirement.

Determinations

Officials of the Detroit Institute of Arts have determined that:

• Pursuant to 25 U.S.C. 3001(9), the human remains described in this notice are Native American based on biological evidence.

• Pursuant to 25 U.S.C. 3001(9), the human remains described in this notice represent the physical remains of 11 individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.10(g)(2) and 10.16, the disposition of the human remains and associated funerary objects may be to the Sault Ste. Marie Tribe of Chippewa Indians, Michigan.

Request for Disposition

Written requests for disposition of the human remains and associated funerary objects in this notice must be sent to the Responsible Official identified in ADDRESSES. Requests for disposition may be submitted by:

1. Any one or more of the Indian Tribes or non-Federally recognized Indian groups identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 22, 2023. If competing requests for disposition are received, the Detroit Institute of Arts must determine the most appropriate requestor prior to disposition. Requests for joint disposition of the human remains and associated funerary objects are considered a single request and not competing requests. The Detroit Institute of Arts is responsible for sending a copy of this notice to the Indian Tribe identified in this notice.

Authority: Native American Graves Protection and Repatriation Act, 25 U.S.C. 3003, and the implementing regulations, 43 CFR 10.9 and 10.11.

Dated: August 16, 2023.
Melanie O'Brien,
Manager, National NAGPRA Program.

[FR Doc. 2023-18131 Filed 8-22-23; 8:45 am]

BILLING CODE 4312-52-P